DEPARTMENT OF VETERANS AFFAIRS

[OMB Control No. 2900-New (0896a)]

Proposed Information Collection (VA Subcontracting Report) Activity; Comment Request

AGENCY: Office of Small and Disadvantaged Business Utilization, Department of Veterans Affairs.

ACTION: Notice.

SUMMARY: Office of Small and Disadvantaged Business Utilization (OSDBU), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice. This notice solicits comments on information needed to implement the subcontracting review mechanism requirement of Public Law 109-461, VA will collect information from subcontractors identified by prime contractors in their subcontracting plans.

DATES: Written comments and recommendations on the proposed collection of information should be received on or before July 27, 2009.

ADDRESSES: Submit written comments on the collection of information through http://www.Regulations.gov; or David Canada (00SB), Department of Veterans Affairs, 810 Vermont Avenue, NW., Washington, DC 20420 or e-mail: david.canada@va.gov. Please refer to “OMB Control No. 2900-New (08969)” in any correspondence. During the comment period, comments may be viewed online through the Federal Docket Management System (FDMS) at http://www.Regulations.gov.

FOR FURTHER INFORMATION CONTACT: David Canada at (202) 461-4253 or FAX (202) 461-4301.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, OSDBU invites comments on: (1) Whether the proposed collection of information is necessary for the proper performance of OSDBU's functions, including whether the information will have practical utility; (2) the accuracy of OSDBU's estimate of the burden of the proposed collection of information; (3) ways to enhance the quality, utility, and clarity of the information to be collected; and (4) ways to minimize the burden of the collection of information on respondents, including through the use of automated collection techniques or the use of other forms of information technology.

Title: VA Subcontracting Report, VA Form 0896a.

OMB Control Number: 2900-New.

Type of Review: New collection.

Abstract: In accordance with Public Law 109-461 Section 8127 (a)(4), “The Secretary shall establish a review mechanism to ensure that, in the case of a subcontract of a Department contract that is counted for purposes of meeting a goal established pursuant to this section, the subcontract was actually awarded to a business concern that may be counted for purposes of meeting that goal.” VA Form 0896a will be used to collect information from subcontractors to compare information obtained from subcontracting plans submitted by prime contractors in order to determine the accuracy of the data reported by prime contractors.

Affected Public: Business or other for-profit.

Estimated Annual Burden: 646 hours.

Estimated Average Burden Per Respondent: 2 Hours.

Frequency of Response: One time.

Estimated Number of Respondents: 323.

By direction of the Secretary.
Denise McLamb,
Program Analyst, Enterprise Records Service.

[FR Doc. E9-12300 Filed 5-26-09; 8:45 am]

BILLING CODE P